DEPARTMENT OF TRANSPORTATION

Federal Aviation Administration

14 CFR Part 71

[Airspace Docket No. 00-ANM-34]

Revision of Class E Airspace, Greeley, CO

AGENCY: Federal Aviation Administration (FAA), DOT.

ACTION: Final rule.

SUMMARY: This action revises the Class E airspace at Greeley, CO. A newly revised Airport Reference Point (ARP) coordinates at the Greeley-Weld Airport has made this action necessary. The change of the ARP coordinates required the legal description of Greeley-Weld Airport Class E airspace to reflect the new coordinates. Additionally, a revision to the Class E 700-feet controlled airspace, above the surface of the earth was required to reflect changes in airspace configurations in Colorado. The intended effect of this proposal is to provide adequate controlled airspace for Instrument Flight Rules (IFR) operations at Greeley-Weld Airport, Greeley, CO.

EFFECTIVE DATE: 0901 UTC, April 18, 2002.

FOR FURTHER INFORMATION CONTACT: Brian Durham, ANM-520.7, Federal Aviation Administration, Docket No. 00-ANM-34, 1601 Lind Avenue SW., Renton, Washington 98055-4056: telephone number: (425) 227-2527.

History

On August 27, 2001, the FAA proposed to amend Title 14 Code of Federal Regulations, part 71 (14 CFR part 71) by revising Class E airspace at Greeley, CO, in order to correct a change in the ARP at the Greeley-Weld Airport, Greeley, CO (66 FR 44994). This action provides Class E5 airspace at Greeley, CO, and to revise the Class E 700-feet airspace to meet current airspace requirements for IFR flight in Colorado. Interested parties were invited to participate in the rulemaking proceeding by submitting written comments on the proposal. No comments were received.

The Rule

This amendment to Title 14 Code of Federal Regulations, part 71 (14 CFR part 71) revises Class E airspace at Greeley, CO, in order to change the ARP coordinates in the legal description of Greeley-Weld Airport. This amendment also revises Class E5 airspace at Greeley, CO, the revision to Class E 700-feet controlled airspace, above the surface of the earth is required to realign airspace configurations in the Denver, CO, terminal area due to the conversion from Stapleton International Airport to the Denver International Airport. Class E 700-feet controlled airspace, above the surface of the earth is required to contain aircraft executing IFR procedures at Greeley-Weld Airport. The FAA establishes Class E airspace where necessary to contain aircraft transitioning between the terminal and en route environments. This rule is designed to provide for the safe and efficient use of the navigable airspace and to promote safe flight operations under Instrument Flight Rules (IFR) at the Greeley-Weld Airport and between the terminal and en route transition stages.

The area will be depicted on aeronautical charts for pilot reference. The coordinates for this airspace docket are based on North American Datum 83. Class E airspace areas extending upward from 700-feet or more above the surface of the earth, are published in Paragraph 6005, of FAA Order 7400.9J dated August 31, 2001, and effective September 16, 2001, which is incorporated by reference in 14 CFR 71.1. The Class E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows

Paragraph 6005 Class E airspace areas extending upward from 700-feet or more above the surface of the earth.

* * * * *

ANM CO E5 Greeley, CO [Revised]

Greeley-Weld County Airport, CO

(Lat. 40°25′43″ N., long. 104°37′58″ W.)

That airspace extending upward from 700 feet above the surface bounded by a line beginning at lat. 40°38′00″N., long. 104°53′02″W.; to lat. 40°41′00″N., long. 104°27′02″W.; to lat. 40°18′00″N., long. 104°23′30″W.; to lat. 40°15′30″N., long. 104°49′30″W.; thence to point of origin; excluding that airspace within Federal Airways, the Denver, CO; Fort Collins, CO, and Loveland, CO, Class E Airspace areas.

* * * * *

Issued in Seattle, Washington, on December 27, 2001.
Daniel A. Boyle,
Assistant Manager, Air Traffic Division, Northwest Mountain Region.

[FR Doc. 02-3791 Filed 2-14-02; 8:45 am]

BILLING CODE 4910-13-M